DEPARTMENT OF HEALTH AND HUMAN SERVICES

National Institutes of Health

National Cancer Institute; Amended Notice of Meeting

Notice is hereby given of a change in the meeting of the National Cancer Institute Special Emphasis Panel, March 14, 2019, 06:00 p.m. to March 15, 2019, 03:00 p.m., Hilton Washington/Rockville, 1750 Rockville Pike, Rockville, MD, 20852 which was published in the Federal Register on December 18, 2018, 83 FR 64849.

This meeting notice is amended to change to a one-day meeting on March 15, 2019 from 6:30 a.m. to 6:00 p.m. The meeting is closed to the public.

Dated: January 30, 2019.
Melanie J. Pantoja,
Program Analyst, Office of Federal Advisory Committee Policy.

[FR Doc. 2019-01009 Filed 2-4-19; 8:45 am]

BILLING CODE 4140-01-P